DEPARTMENT OF TRANSPORTATION

Federal Aviation Administration

14 CFR Part 39

[Docket No. FAA-2020-0271; Product Identifier 2017-SW-017-AD; Amendment 39-21259; AD 2020-20-03]

RIN 2120-AA64

Airworthiness Directives; Airbus Helicopters

AGENCY: Federal Aviation Administration (FAA), DOT.

ACTION: Final rule.

SUMMARY: The FAA is adopting a new airworthiness directive (AD) for certain Airbus Helicopters Model AS350B2 helicopters. This AD requires performing a test of the main rotor RPM (NR) indicator, and depending on the results, altering the wiring. This AD was prompted by reports of some NR indicators displaying incorrect information. The actions of this AD are intended to address an unsafe condition on these products.

DATES: This AD is effective November 3, 2020.

The Director of the Federal Register approved the incorporation by reference of a certain document listed in this AD as of November 3, 2020.

ADDRESSES: For service information identified in this final rule, contact Airbus Helicopters, 2701 N Forum Drive, Grand Prairie, TX 75052; telephone 972-641-0000 or 800-232-0323; fax 972-641-3775; or at https://www.airbus.com/helicopters/services/technical-support.html. You may view the service information at the FAA, Office of the Regional Counsel, Southwest Region, 10101 Hillwood Pkwy., Room 6N-321, Fort Worth, TX 76177. It is also available on the internet at https://www.regulations.gov by searching for and locating Docket No. FAA-2020-0271.

Examining the AD Docket

You may examine the AD docket on the internet at https://www.regulations.gov by searching for and locating Docket No. FAA-2020-0271; or in person at Docket Operations between 9 a.m. and 5 p.m., Monday through Friday, except Federal holidays. The AD docket contains this AD, the European Aviation Safety Agency (now European Union Aviation Safety Agency) (EASA) AD, any service information that is incorporated by reference, any comments received, and other information. The address for Docket Operations is U.S. Department of Transportation, Docket Operations, M-30, West Building Ground Floor, Room W12-140, 1200 New Jersey Avenue SE, Washington, DC 20590.

FOR FURTHER INFORMATION CONTACT: George Schwab, Aviation Safety Engineer, Safety Management Section, Rotorcraft Standards Branch, FAA, 10101 Hillwood Pkwy., Fort Worth, TX 76177; telephone 817-222-5110; email george.schwab@faa.gov.

SUPPLEMENTARY INFORMATION:

Discussion

The FAA issued a notice of proposed rulemaking (NPRM) to amend 14 CFR part 39 by adding an AD that would apply to Airbus Helicopters Model AS350B2 helicopters with a certain part-numbered NR sensor installed. The NPRM published in the Federal Register on March 23, 2020 (85 FR 16279). The NPRM proposed to require compliance with certain procedures described in the manufacturer's service bulletins. For Model AS350B2 helicopters with an NR sensor part number 704A37614007 installed, the NPRM proposed to require, before further flight, performing a test to determine if the NR indicator display changes or drops to zero when the emergency cut-out control is activated. If the NR display changes or drops to zero during the ground run, the NPRM proposed to require, before further flight, altering the NR sensor wiring.

The NPRM was prompted by EASA AD No. 2016-0260, dated December 21, 2016, issued by EASA, which is the Technical Agent for the Member States of the European Union, to correct an unsafe condition for Airbus Helicopters Model AS350B2 helicopters with a certain part-numbered NR sensor installed. EASA advises of several occurrences where the NR indicator has displayed incorrect data. According to EASA, an investigation determined that whenever the emergency cut-out control was activated, such as during a practice autorotation, electrical power to the NR indicator was lost. The EASA AD states that this condition, if not detected and corrected, could result in a significant increase in pilot workload, disruption of the autorotation training, and subsequent reduced control of the helicopter. To address this unsafe condition, the EASA AD requires a functional check of the NR indicator display, and, if required, altering the wiring to ensure a dual power supply to the NR indicator.

Comments

The FAA gave the public the opportunity to participate in developing this final rule. The FAA received one comment in support of the NPRM.

FAA's Determination

These helicopters have been approved by EASA and are approved for operation in the United States. Pursuant to the FAA's bilateral agreement with the European Union, EASA has notified the FAA of the unsafe condition described in its AD. The FAA is issuing this AD after evaluating all information provided by EASA and determining the unsafe condition exists and is likely to exist or develop on other helicopters of these same type designs and that air safety and the public interest require adopting the AD requirements as proposed.

Differences Between This AD and the EASA AD

The EASA AD requires compliance within 75 flight hours, within 90 days, or before the next autorotation training flight, whichever occurs first. This AD requires compliance before further flight due to the critical nature of NR information for the pilot during an autorotation.

Related Service Information Under 1 CFR Part 51

The FAA reviewed Airbus Helicopters Alert Service Bulletin No. AS350-63.00.27, Revision 0, dated May 17, 2016. This service information contains procedures for performing a functional check of the NR indicator, and, if necessary, altering the wiring to add a direct battery supply to the NR indicator. Airbus Helicopters identifies this alteration as Modification 350A084886.00.

This service information is reasonably available because the interested parties have access to it through their normal course of business or by the means identified in the ADDRESSES section.

Costs of Compliance

The FAA estimates that this AD affects 352 helicopters of U.S. Registry. The FAA estimates that operators may incur the following costs in order to comply with this AD. Labor costs are estimated at $85 per work-hour.

Performing a functional test of the NR indicator takes about 0.5 work-hours for an estimated cost of $43 per helicopter and $15,136 for the U.S. fleet.

If required, altering the NR sensor wiring takes about 2 work-hours, and parts cost about $154, for an estimated cost of $324 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-20-03 Airbus Helicopters: Amendment 39-21259; Docket No. FAA-2020-0271; Product Identifier 2017-SW-017-AD.

(a) Applicability

This AD applies to Airbus Helicopters Model AS350B2 helicopters, certificated in any category, with a main rotor RPM (NR) sensor part number 704A37614007 installed.

(b) Unsafe Condition

This AD defines the unsafe condition as loss of electrical power to the NR indicator when the emergency cutout control is activated. This condition could result in increased pilot workload and reduced helicopter control.

(c) Effective Date

This AD becomes effective November 3, 2020.

(d) Compliance

You are responsible for performing each action required by this AD within the specified compliance time unless it has already been accomplished prior to that time.

(e) Required Actions

Before further flight, perform a ground run-up with the fuel flow control lever in the flight gate with the collective control in the down/locked position. While at flight NR speed, activate the emergency cut-out control and observe the NR indicator display value. If the NR indicator display changes or drops to zero, before further flight, do the following:

(1) Alter the NR indicator wiring as depicted in Figures 1 and 2 of Airbus Helicopters Alert Service Bulletin No. AS350-63.00.27, Revision 0, dated May 17, 2016; and,

Note 1 to paragraph (e)(1): Airbus Helicopters identifies the alteration of the wiring as Modification 350A084886.00.

(2) Conduct a continuity test to confirm correct alteration of the wiring.

(f) Alternative Methods of Compliance (AMOCs)

(1) The Manager, Rotorcraft Standards Branch, FAA, may approve AMOCs for this AD. Send your proposal to: George Schwab, Aviation Safety Engineer, Safety Management Section, Rotorcraft Standards Branch, FAA, 10101 Hillwood Pkwy., Fort Worth, TX 76177; telephone 817-222-5110; email9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(g) Additional Information

The subject of this AD is addressed in European Aviation Safety Agency (now European Union Aviation Safety Agency) (EASA) AD No. 2016-0260, dated December 21, 2016. You may view the EASA AD on the internet at https://www.regulations.gov in Docket No. FAA-2020-0271.

(h) Subject

Joint Aircraft Service Component (JASC) Code: 6340, Main Rotor Drive Indicating System.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Helicopters Alert Service Bulletin No. AS350-63.00.27, Revision 0, dated May 17, 2016.

(ii) [Reserved]

(3) For service information identified in this AD, contact Airbus Helicopters, 2701 N. Forum Drive, Grand Prairie, TX 75052; telephone 972-641-0000 or 800-232-0323; fax 972-641-3775; or at https://www.airbus.com/helicopters/services/technical-support.html.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on September 18, 2020.
Lance T. Gant,
Director, Compliance & Airworthiness Division, Aircraft Certification Service.

[FR Doc. 2020-21415 Filed 9-28-20; 8:45 am]

BILLING CODE 4910-13-P